DEPARTMENT OF DEFENSE

Department of the Navy

Notice of Availability of Finding

AGENCY: Department of the Navy, DoD.

ACTION: Notice of Availability.

SUMMARY: Pursuant to section 102(2)(C) of the National Environmental Policy Act (NEPA) of 1969 and the Council on Environmental Quality regulations (40 CFR parts 1500-1508), implementing procedural provisions of NEPA, the Department of the Navy (DON) gives notice that a Finding of No Significant Impact (FONSI) has been issued and is available for Expeditionary Strike Group Composite Training Unit Exercise (ESG COMPUTEX) (November/December 2007). In addition, pursuant to Executive Order (EO) 12114, Environmental Effects Abroad of Major Federal Actions, a Finding of No Significant Harm (FONSH) has been issued and is available for ESG COMPUTEX (November/December 2007).

DATES: The effective date of the finding is October 25, 2007.

ADDRESSES: Electronic copies of the FONSI and FONSH are available for public viewing or downloading at http://www.navydocuments.com.

FOR FURTHER INFORMATION CONTACT: Commander, Second Fleet Public Affairs, Commander Phillips, tel 757-443-9822 or visit http://www.navydocuments.com.

SUPPLEMENTARY INFORMATION: ESG COMPTUEX (November/December 2007) is a major Navy Atlantic Fleet training exercise proposed to occur in November and December 2007 in the offshore Virginia Capes, Cherry Point, and Charleston Operating Areas (OPAREAs) and adjacent military installations. The purpose of this exercise is to certify naval forces as combat-ready. Activities conducted during the exercise include air-to-ground bombing at land ranges, amphibious landings, mine warfare exercises, gunnery exercises, small craft interdiction operations, maritime interdiction operations, and anti-submarine warfare, including use of mid-frequency active (MFA) sonar.

The FONSI is based on analysis contained in a Comprehensive Environmental Assessment (EA) addressing environmental impacts associated with land-based training for Major Atlantic Fleet Training Exercises on the East and Gulf Coasts of the U.S. The FONSH is based on analysis contained in a Comprehensive Overseas Environmental Assessment (OEA) and Supplement to the Comprehensive OEA (SOEA) for environmental impacts associated with Navy's conduct of major exercise training in offshore operating areas along the East and Gulf Coasts of the U.S. Environmental concerns addressed in the EA included land use, community facilities, coastal zone management, socioeconomics, cultural resources, airspace, air quality, noise, geology, soils, water resources, biological resources, munitions and hazardous materials management, and safety. The OEAs addressed potential impacts to the ocean physical environment, fish and Essential Fish Habitat; sea turtles and marine mammals; seabirds and migratory birds; endangered and threatened species; socioeconomics; and cultural resources. The SOEA included an updated analysis of MFA sonar use and gunnery use associated with ESG COMPTUEX (November/December 2007).

This action includes mitigation measures to reduce impacts to a level that is less than significant. Based on information gathered during preparation of the Major Atlantic Fleet Training Exercise EA and OEA and the SOEA and the evaluation of the nature, scope and intensity of the proposed action, the Navy finds that the conduct of the ESG COMPUTEX (November/December 2007) will not significantly impact or harm the environment and, therefore, an Environmental Impact Statement or Overseas Environmental Impact Statement is not required.

Dated: November 14, 2007.
T.M. Cruz,
Lieutenant, Judge Advocate General's Corps, U.S. Navy, Federal Register Liaison Officer.

[FR Doc. E7-22645 Filed 11-19-07; 8:45 am]

BILLING CODE 3810-FF-P